DEPARTMENT OF HEALTH AND HUMAN SERVICES

National Institutes of Health

Center for Scientific Review; Cancellation of Meeting

Notice is hereby given of the cancellation of the Center for Scientific Review Special Emphasis Panel, October 20, 2005, 5 p.m. to October 21, 2005, 2:30 p.m., Hilton Crystal City, 2399 Jefferson Davis Highway, Arlington, VA 22202 which was published in the Federal Register on September 28, 2005, 70 FR 56727-56729.

The meeting is cancelled due to the reassignment of the applications.

Dated: October 6, 2005.
Anthony M. Coelho, Jr.,
Acting Director, Office of Federal Advisory Committee Policy.

[FR Doc. 05-20736 Filed 10-17-05; 8:45 am]

BILLING CODE 4140-01-M